DEPARTMENT OF JUSTICE

Notice of Lodging of Proposed Consent Decree Under the System Unit Resource Protection Act

On January 19, 2017, the Department of Justice lodged a proposed consent decree with the United States District Court for the Northern District of California in United States v. Tomales Bay Oyster Company, LLC, Civil Action No. 3:17-cv-00255.

The United States filed a complaint under the System Unit Resource Protection Act, 54 U.S.C. 100722(a), and California trespass law seeking damages and response costs stemming from the Defendant's alleged use of a parcel of land owned by the United States and administered by the United States National Park Service as part of the Golden Gate National Recreation Area. The United States simultaneously lodged a consent decree which would settle these claims in return for a payment of $280,000. From this sum, the Department of Justice will deposit $267,742 in the Department of the Interior's Natural Resource Damage Assessment and Restoration Fund to pay for response and natural resource damage assessment costs incurred by the United States and natural resource restoration projects related to this incident. The Department of Justice will deposit the remaining $12,258 in the United States Treasury.

The publication of this notice opens a period for public comment on the proposed consent decree. Comments should be addressed to the Assistant Attorney General, Environment and Natural Resources Division, and should refer to United States v. Tomales Bay Oyster Company, LLC, D.J. Ref. No. 90-5-1-1-11544. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $4.75 (25 cents per page reproduction cost) payable to the United States Treasury.

Henry Friedman,
Assistant Section Chief, Environmental Enforcement Section, Environment and Natural Resources Division.

[FR Doc. 2017-01698 Filed 1-24-17; 8:45 am]

BILLING CODE P